DEPARTMENT OF STATE

[Public Notice 4127]

Department of State Performance Review Board Members (At-Large Board)

In accordance with Section 4314(c)(4) of the Civil Service Reform Act of 1978 (Pub. L. 95-454), the Executive Resources Board of the Department of State has appointed the following individuals to the Department of State Performance Review Board (At-Large):

Christopher H. Flaggs, Managing Director, Office of Financial Policy, Reporting and Analysis, Bureau of Resource Management, Department of State;

Janice H. Brambilla, Senior Advisor, Office of the Under Secretary for Public Diplomacy And Public Affairs, Department of State;

David S. Mathias, Assistant Legal Adviser, Office of the Legal Adviser, United Nations Affairs, Department of State;

Barry L. Wells, Deputy Director, Foreign Service Institute, Department of State; Cathleen E. Lawrence, Executive Director, Bureau of Nonproliferation, Department of State;

Lawrence R. Baer, Executive Director, Bureau of East Asian and Pacific Affairs, Department of State.

Dated: September 13, 2002.
Linda S. Taglialatela,
Deputy Assistant Secretary, Bureau of Human Resources, Department of State.

[FR Doc. 02-23810 Filed 9-18-02; 8:45 am]

BILLING CODE 4710-15-P